RAILROAD RETIREMENT BOARD

Sunshine Act; Notice of Public Meeting

Notice is hereby given that the Railroad Retirement Board will hold a meeting on June 22, 2005, 9:30 a.m., at the Board's meeting room on the 8th floor of its headquarters building, 844 North Rush Street, Chicago, Illinois, 60611. The agenda for this meeting follows:

(1) Discussion on the Hiring Plan, Considering All Positions (Field Service and Others).

(2) Field Committee Report.

(3) Projected RRB Staffing Through Fiscal Year 2007.

The entire meeting will be open to the public. The person to contact for more information is Beatrice Ezerski, Secretary to the Board, Phone No. 312-751-4920.

Dated: June 13, 2005.
Beatrice Ezerski,
Secretary to the Board.

[FR Doc. 05-11972 Filed 6-14-05; 10:50 am]

BILLING CODE 7905-01-M